DEPARTMENT OF THE INTERIOR

Fish and Wildlife Service

[FWS-R8-ES-2014-N241; 80221-1113-0000-C2]

Endangered and Threatened Wildlife and Plants; Draft Recovery Plan for Baker's Larkspur (Delphinium bakeri)

AGENCY: Fish and Wildlife Service, Interior.

ACTION: Notice of document availability.

SUMMARY: We, the U.S. Fish and Wildlife Service, announce the availability of the Draft Recovery Plan for Baker's Larkspur (Delphinium bakeri) for public review and comment. The recovery plan includes downlisting objectives and criteria, and specific actions necessary to reclassify the species from endangered to threatened on the Federal Lists of Endangered and Threatened Wildlife and Plants.

DATES: We must receive any comments on the draft recovery plan on or before March 16, 2015.

ADDRESSES: You may obtain a copy of the recovery plan from our Web site at http://www.fws.gov/endangered/species/recovery-plans.html. Alternatively, you may contact the Sacramento Fish and Wildlife Office, U.S. Fish and Wildlife Service, 2800 Cottage Way, Suite W-2605, Sacramento, CA 95825 (telephone 916-414-6700).

FOR FURTHER INFORMATION CONTACT: Jennifer Norris, Field Supervisor, at the above street address or telephone number (see ADDRESSES).

SUPPLEMENTARY INFORMATION:

Background

Recovery of endangered or threatened animals and plants to the point where they are again secure, self-sustaining members of their ecosystems is a primary goal of our endangered species program and the Endangered Species Act of 1973, as amended (Act; 16 U.S.C. 1531 et seq.). Recovery means improvement of the status of listed species to the point at which listing is no longer appropriate under the criteria specified in section 4(a)(1) of the Act. The Act requires the development of recovery plans for listed species, unless such a plan would not promote the conservation of a particular species.

We listed Baker's larkspur throughout its entire range on January 26, 2000 (65 FR 4156). The species is endemic to Marin and Sonoma Counties, California, and is currently known from one small historical occurrence along Marshall-Petaluma Road in west Marin County. The remaining historical occurrence of Baker's larkspur occurs on decomposed shale in the mixed woodland plant community at an elevation range of 295 feet (ft) (90 meter (m)) to 672 ft (205 m) in moderately moist, shaded conditions on a shallow veneer of soil along an extensive north-facing slope. These habitat requirements limit the availability of suitable reintroduction sites with appropriate habitat conditions and compatible land use. Although habitat conversion and road maintenance were historically responsible for decreasing numbers, those threats have been curtailed. Because of the extreme range restriction of this already-narrow endemic, and its small population size, the plant is highly vulnerable to extinction from random events, including wildfire, herbivory, disease and pest outbreaks, and human disturbance.

Recovery Plan Goals

The purpose of a recovery plan is to provide a framework for the recovery of species so that protection under the Act is no longer necessary. A recovery plan includes scientific information about the species and provides criteria that enable us to gauge whether downlisting or delisting the species is warranted. Furthermore, recovery plans help guide our recovery efforts by describing actions we consider necessary for each species' conservation and by estimating time and costs for implementing needed recovery measures.

The goal of this recovery plan is to improve the status of Baker's larkspur so that it can be downlisted. Due to the current lack of information about the species' biology and habitat requirements, the magnitude of current threats, and the precarious environment where the single historical population of the species persists, we are unable to determine appropriate delisting criteria; therefore, we focus on meeting the goal of downlisting. To meet the recovery goal of downlisting, the following objectives have been identified:

1. Expand the existing populations of Baker's larkspur and establish additional self-sustaining populations of Baker's larkspur throughout its known ecological and geographical range, while preserving extant genetic diversity.

2. Ensure existing and future populations are protected from incompatible uses, such as road maintenance.

3. Reduce herbivory by slugs, snails, and gophers to the point that it does not affect the species at a population level.

As Baker's larkspur meets reclassification criteria, we will review its status and consider it for downlisting on the Federal Lists of Endangered and Threatened Wildlife and Plants.

Public Comments Solicited

We solicit written comments on the draft recovery plan described in this notice. All comments received by the date specified above will be considered in development of a final recovery plan for Baker's larkspur. You may submit written comments and information by mail or in person to the Sacramento Fish and Wildlife Office at the above address (see ADDRESSES).

Public Availability of Comments

Before including your address, phone number, email address, or other personal identifying information in your comment, you should be aware that your entire comment—including your personal identifying information—may be made publicly available at any time. While you can ask us in your comment to withhold your personal identifying information from public review, we cannot guarantee that we will be able to do so.

Authority

We developed this recovery plan under the authority of section 4(f) of the Act, 16 U.S.C. 1533(f). We publish this notice under section 4(f) of the Endangered Species Act of 1973, as amended (16 U.S.C. 1531 et seq.).

Dated: January 7, 2015.
Alexandra Pitts,
Acting Regional Director, Pacific Southwest Region.

[FR Doc. 2015-00392 Filed 1-12-15; 8:45 am]

BILLING CODE 4310-55-P